DEPARTMENT OF EDUCATION

[Docket No.: ED-2020-SCC-0157]

Agency Information Collection Activities; Submission to the Office of Management and Budget for Review and Approval; Comment Request; Application Package for Grants Under the Predominantly Black Institutions Program (PBI)

AGENCY: Office of Postsecondary Education, Department of Education (ED).

ACTION: Notice.

SUMMARY: In accordance with the Paperwork Reduction Act of 1995, ED is proposing a reinstatement without change of a previously approved collection.

DATES: Interested persons are invited to submit comments on or before October 29, 2020.

ADDRESSES: Written comments and recommendations for proposed information collection requests should be sent within 30 days of publication of this notice to www.reginfo.gov/public/do/PRAMain. Find this particular information collection request by selecting “Department of Education” under “Currently Under Review,” then check “Only Show ICR for Public Comment” checkbox.

FOR FURTHER INFORMATION CONTACT: For specific questions related to collection activities, please contact Kelley Harris, 202-453-7346.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Application Package for Grants under the Predominantly Black Institutions Program (PBI).

OMB Control Number: 1840-0797.

Type of Review: Reinstatement without change of a previously approved collection.

Respondents/Affected Public: State, Local, and Tribal Governments.

Total Estimated Number of Annual Responses: 130.

Total Estimated Number of Annual Burden Hours: 4,550.

Abstract: The Predominantly Black Institutions (PBI) Program is authorized under Title III, Part F of the Higher Education Act of 1965, as amended (HEA). The PBI Program makes grant awards to eligible colleges and universities to support the strengthening of PBIs to carry out programs in the following areas: Science, technology, engineering, or mathematics; health education; internationalization or globalization; teacher preparation; or improving the educational outcomes of African American males. Grants support the establishment or strengthening of such programs that are designed to increase the institutions capacity to prepare students for instruction in the above noted fields. Grants are awarded competitively. This information collection is necessary to comply with Title III, Part F of the HEA. This collection is being submitted under the Streamlined Clearance Process for Discretionary Grant Information Collections (1894-0001). Therefore, the 30-day public comment period notice will be the only public comment notice published for this information collection request.

Dated: September 24, 2020.
Kate Mullan,
PRA Coordinator, Strategic Collections and Clearance, Governance and Strategy Division, Office of Chief Data Officer, Office of Planning, Evaluation and Policy Development.

[FR Doc. 2020-21430 Filed 9-28-20; 8:45 am]

BILLING CODE 4000-01-P